EQUAL EMPLOYMENT OPPORTUNITY COMMISSION

Records and Reports for Private Industry Employers

AGENCY: Equal Employment Opportunity Commission.

ACTION: Notice of extension of deadline for filing report.

SUMMARY: Notice is hereby given that the deadline for filing the 2000 Employer Information Report (EEO-1) required by 29 CFR 1602.7 is extended from September 30, 2000 to October 30, 2000. The three month reference period used to report employment figures remains the same. Data must be reported for any payroll period in July through September of the year 2000.

FOR FURTHER INFORMATION CONTACT: Joachim Neckere, Director, Program Research and Surveys Division at (202) 663-4958 (voice) or (202) 663-7063 (TDD).

Dated: September 22, 2000.
For the Commission.
Ida L. Castro,
Chairwoman.

[FR Doc. 00-24904 Filed 9-27-00; 8:45 am]

BILLING CODE 6750-01-M